DEPARTMENT OF COMMERCE

International Trade Administration

A-570-879

Polyvinyl Alcohol from the People's Republic of China; Final Results of Antidumping Duty Administrative Review

AGENCY: Import Administration, International Trade Administration, Department of Commerce.

SUMMARY: On July 7, 2006, the Department of Commerce (Department) published the preliminary results of its 2004-2005 administrative review of the antidumping duty order on polyvinyl alcohol (PVA) from the People's Republic of China (PRC). See Polyvinyl Alcohol from the People's Republic of China; Preliminary Results of Antidumping Duty Administrative Review, 71 FR 38612 (July 7, 2006) (Preliminary Results). We have now completed that review. For these final results, as in the Preliminary Results, we determine that sales have not been made below normal value (NV).

EFFECTIVE DATE: October 23, 2006.

FOR FURTHER INFORMATION CONTACT: Jill Pollack, AD/CVD Operations, Office 2, Import Administration, International Trade Administration, U.S. Department of Commerce, 14th Street and Constitution Avenue, NW, Washington, DC 20230; telephone: (202) 482-4593.

SUPPLEMENTARY INFORMATION:

Background

On July 7, 2006, the Department published in the Federal Register the preliminary results of administrative review of the antidumping duty order on PVA from the PRC. See Preliminary Results. Interested parties were invited to comment on the preliminary results. On August 7, 2006, we received case briefs from Sinopec Sichuan Vinylon Works (SVW), the respondent in this administrative review, and Solutia Inc. (Solutia), a domestic interested party. No party filed a rebuttal brief.

On September 15 and 28, 2006, respectively, SVW and Solutia withdrew their case briefs and requested that the Department issue the final results. SVW also requested that the Department issue the final results on an expedited basis. The Department has conducted this administrative review in accordance with section 751 of the Tariff Act of 1930, as amended (Act).

Period of Review

The period of review (POR) is October 1, 2004, through September 30, 2005.

Scope of Order

The merchandise covered by this order is PVA. This product consists of all PVA hydrolyzed in excess of 80 percent, whether or not mixed or diluted with commercial levels of defoamer or boric acid, except as noted below.

The following products are specifically excluded from the scope of this order:

1) PVA in fiber form.

2) PVA with hydrolysis less than 83 mole percent and certified not for use in the production of textiles.

3) PVA with hydrolysis greater than 85 percent and viscosity greater than or equal to 90 cps.

4) PVA with a hydrolysis greater than 85 percent, viscosity greater than or equal to 80 cps but less than 90 cps, certified for use in an ink jet application.

5) PVA for use in the manufacture of an excipient or as an excipient in the manufacture of film coating systems which are components of a drug or dietary supplement, and accompanied by an end-use certification.

6) PVA covalently bonded with cationic monomer uniformly present on all polymer chains in a concentration equal to or greater than one mole percent.

7) PVA covalently bonded with carboxylic acid uniformly present on all polymer chains in a concentration equal to or greater than two mole percent, certified for use in a paper application.

8) PVA covalently bonded with thiol uniformly present on all polymer chains, certified for use in emulsion polymerization of non-vinyl acetic material.

9) PVA covalently bonded with paraffin uniformly present on all polymer chains in a concentration equal to or greater than one mole percent.

10) PVA covalently bonded with silan uniformly present on all polymer chains certified for use in paper coating applications.

11) PVA covalently bonded with sulfonic acid uniformly present on all polymer chains in a concentration level equal to or greater than one mole percent.

12) PVA covalently bonded with acetoacetylate uniformly present on all polymer chains in a concentration level equal to or greater than one mole percent.

13) PVA covalently bonded with polyethylene oxide uniformly present on all polymer chains in a concentration level equal to or greater than one mole percent.

14) PVA covalently bonded with quaternary amine uniformly present on all polymer chains in a concentration level equal to or greater than one mole percent.

15) PVA covalently bonded with diacetoneacrylamide uniformly present on all polymer chains in a concentration level greater than three mole percent, certified for use in a paper application.

The merchandise subject to this order is currently classifiable under subheading 3905.30.00 of the Harmonized Tariff Schedule of the United States (HTSUS). Although the HTSUS subheading is provided for convenience and customs purposes, the written description of the scope of this order is dispositive.

Surrogate Country

In the Preliminary Results, we stated that we treat the PRC as a non-market economy (NME) country and, therefore, we calculated NV in accordance with section 773(c) of the Act, which applies to NME countries. Also, we stated that we selected India as the appropriate surrogate country to use in this review for the following reasons: (1) it is a significant producer of comparable merchandise; and (2) it is at a similar level of economic development, pursuant to 773(c)(4) of the Act. See Preliminary Results, 71 FR at 38613. For the final results, we made no changes to our findings with respect to the selection of a surrogate country.

Separate Rates

In proceedings involving NME countries, the Department begins with a rebuttable presumption that all companies within the country are subject to government control and, thus, should be assigned a single antidumping duty deposit rate. It is the Department's policy to assign all exporters of merchandise subject to review in an NME country this single rate unless an exporter can demonstrate that it is sufficiently independent so as to be entitled to a separate rate. In the Preliminary Results, we found that SVW demonstrated its eligibility for separate-rate status. For these final results, we continue to find that the evidence placed on the record of this review by SVW demonstrates an absence of government control, both in law and in fact, with respect to its exports of the merchandise under review and, thus, determine SVW is eligible for separate-rate status.

Weighted-Average Dumping Margin

The weighted-average dumping margin is as follows:

Manufacturer/producer/exporter | Margin percentage
Sinopec Sichuan Vinylon Works | 0.00 percent

Assessment Rates

The Department will issue appraisement instructions directly to U.S. Customs and Border Protection (CBP) within 15 days of publication of these final results of administrative review. In accordance with 19 CFR 351.212(b)(1), we have calculated importer-specific assessment rates for the merchandise subject to this review. We note that SVW did not report the entered value for its U.S. sales in question. Accordingly, we have calculated importer-specific assessment rates for the merchandise in question by aggregating the dumping margins calculated for all U.S. sales to each importer and dividing this amount by the total quantity of those sales. To determine whether the duty assessment rates were de minimis, in accordance with the requirement set forth in 19 CFR 351.106(c)(2), we calculated importer-specific ad valorem ratios based on the estimated entered value. Where an importer-specific ad valorem rate is de minimis, we will order CBP to liquidate appropriate entries without regard to antidumping duties.

Cash-Deposit Requirements

The following cash deposit requirements will be effective upon publication of this notice of final results of administrative review for all shipments of PVA from the PRC entered, or withdrawn from warehouse, for consumption on or after the date of publication, as provided by section 751(a)(1) of the Act: (1) because the cash deposit rate for SVW is de minimis, no cash deposit shall be required for SVW; (2) the cash deposit rate for all other PRC exporters will be 97.86 percent, the current PRC-wide rate; and (3) the cash deposit rate for all non-PRC exporters will be the rate applicable to the PRC exporter that supplied that exporter. These deposit requirements, when imposed, shall remain in effect until publication of the final results of the next administrative review.

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as a reminder to parties subject to administrative protective order (APO) of their responsibility concerning the return or destruction of proprietary information disclosed under APO in accordance with 19 CFR 351.305. Timely written notification of the return/destruction of APO materials or conversion to judicial protective order is hereby requested. Failure to comply with the regulations and terms of an APO is a violation which is subject to sanction.

This determination and notice are issued and published in accordance with sections 751(a)(1) and 777(i)(1) of the Act, and 19 CFR 351.213.

Dated: October 17, 2006.
David M. Spooner,
Assistant Secretary for Import Administration.

[FR Doc. E6-17712 Filed 10-20-06; 8:45 am]

BILLING CODE 3510-DS-S